DEPARTMENT OF ENERGY

Federal Energy Regulatory Commission

[Project No. 1403-064; Project No. 2678-009]

Notice of Application for Transfer of License and Amendment of License and Soliciting Comments, Motions To Intervene, and Protests; Pacific Gas and Electric Company, Yuba County Water Agency

Take notice that the following hydroelectric application has been filed with the Commission and is available for public inspection.

a. Type of Application: Transfer of License and Amendment.

b. Project Nos.: 1403-064 and 2678-009.

c. Date filed: October 17, 2018.

d. Applicants: Pacific Gas and Electric Company (transferor), Yuba County Water Agency (transferee).

e. Name of Projects: Narrows Project (P-1403), Narrows No. 2 Transmission Line Project (P-2678).

f. Location: Narrows Project—located at the U.S. Army Corps of Engineers' (Corps) Englebright Dam on the Yuba River in Nevada County, California.

Narrows No. 2 Transmission Line Project—located in the Sierra Nevada foothills in the Yuba River watershed adjacent to the Narrows Project in Yuba and Nevada counties, California, and occupies 1.28 acres of public land managed by the Corps.

g. Filed Pursuant to: Federal Power Act, 16 U.S.C. 791a-825r.

h. Applicants Contact: For Transferor: Ms. Annette Faraglia, Chief Counsel Hydro Generation, Pacific Gas and Electric Company, 77 Beale Street, B30A-3005, San Francisco, CA 94105, 415-973-7145, Email: annette.faraglia@pge.com and Ms. Stephanie Maggard, Director, Power Generation, Pacific Gas and Electric Company, 245 Market Street, N11E-1136, San Francisco, CA 94105, 415-973-2812, Email: Stephanie.maggard@pge.com.

For Transferee: Mr. Richard P. Shanahan, General Counsel, Bartkiewicz, Kronick & Shanahan, Yuba County Water Agency, 1011 22nd Street, Sacramento, CA 95816-4907, 916-446-4254, Email: rps@bkslawfirm.com and Mr. Curtis Aikens, General Manager, Yuba County Water Agency, 1220 F Street, Marysville, CA 95901, 530-741-5015, Email: caikens@yubawater.org.

i. FERC Contacts: Patricia W. Gillis, (202) 502-8735 or patricia.gillis@ferc.gov, or Steven Sachs, (202) 502-8666 or steven.sachs@ferc.gov.

j. Deadline for filing comments, motions to intervene, and protests: 30 days from the date that the Commission issues this notice.

The Commission strongly encourages electronic filing. Please file comments, motions to intervene, or protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket numbers P-1403-064 and P-2678-009.

k. Description of Transfer and Amendment Requests: The applicants request that the Commission transfer the Narrows Project No. 1403 from Pacific Gas and Electric Company to Yuba County Water Agency. The applicants also request that the Commission remove the transmission line for the Narrows Project and incorporate it into the license for the Narrows No. 2 Transmission Line Project No. 2678. Furthermore, the applicants request that the Commission remove facilities and lands from the Narrows Project, which they state are not under the Commission's jurisdiction. These include a substation at the terminus of the Narrows Project transmission line, a telephone line connecting the project and the Corps' headworks, an access road, and adjoining lands not needed for project purposes.

l. Location of the Application: A copy of the application is available for inspection and reproduction at the Commission's Public Reference Room, located at 888 First Street NE, Room 2A, Washington, DC 20426, or by calling (202) 502-8371. This filing may also be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676, email FERCOnlineSupport@ferc.gov, or for TTY, call (202) 502-8659.

m. Individuals desiring to be included on the Commission's mailing list should so indicate by writing to the Secretary of the Commission.

n. Comments, Protests, or Motions to Intervene: Anyone may submit comments, a protest, or a motion to intervene in accordance with the requirements of the Commission's Rules of Practice and Procedure, 18 CFR 385.210, .211, and .214. In determining the appropriate action to take, the Commission will consider all protests and other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the request to upgrade the turbine generator units. Agencies may obtain copies of the application directly from the applicant. A copy of any protest or motion to intervene must be served upon each representative of the applicant specified in the particular application. If an intervener files comments or documents with the Commission relating to the merits of an issue that may affect the responsibilities of a particular resource agency, they must also serve a copy of the document on that resource agency.

A copy of all other filings in reference to this application must be accompanied by proof of service on all persons listed in the service list prepared by the Commission in this proceeding, in accordance with 18 CFR 4.34(b) and 385.2010.

Dated: December 19, 2018.
Kimberly D. Bose,
Secretary.

[FR Doc. 2018-28053 Filed 12-26-18; 8:45 am]

BILLING CODE 6717-01-P